DEPARTMENT OF THE INTERIOR

Bureau of Ocean Energy Management, Regulation and Enforcement

[Docket ID No. BOEM-2011-0011]

Information Collection Activity: Plans and Information, Extension of a Collection; Comment Request

AGENCY: Bureau of Ocean Energy Management, Regulation and Enforcement (BOEMRE), Interior.

ACTION: Notice of extension of an information collection (1010-0151).

SUMMARY: To comply with the Paperwork Reduction Act of 1995 (PRA), BOEMRE is inviting comments on a collection of information that we will submit to the Office of Management and Budget (OMB) for review and approval. The information collection request (ICR) concerns the paperwork requirements in the regulations of planned exploration, development, and production operations on the OCS, under Subpart B, Plans and Information.

DATES: Submit written comments by September 6, 2011.

FOR FURTHER INFORMATION CONTACT: Cheryl Blundon, Regulations and Standards Branch at (703) 787-1607. You may also contact Cheryl Blundon to obtain a copy, at no cost, of the regulations and the forms that require the subject collection of information.

ADDRESSES: You may submit comments by either of the following methods listed below.

• Electronically: go to http://www.regulations.gov. In the entry titled “Enter Keyword or ID,” enter BOEM-2011-0011 then click search. Follow the instructions to submit public comments and view supporting and related materials available for this collection. BOEMRE will post all comments.

• E-mail cheryl.blundon@boemre.gov. Mail or hand-carry comments to the Department of the Interior; Bureau of Ocean Energy Management, Regulation and Enforcement; Attention: Cheryl Blundon; 381 Elden Street, MS-4024; Herndon, Virginia 20170-4817. Please reference ICR 1010-0151 in your comment and include your name and return address.

SUPPLEMENTARY INFORMATION: Title: 30 CFR Part 250, Subpart B, Plans and Information.

Form(s): MMS-137, MMS-138, MMS-139, MMS-141, and MMS-142.

OMB Control Number: 1010-0151.

Abstract: The Outer Continental Shelf (OCS) Lands Act, as amended (43 U.S.C. 1331 et seq., 31 U.S.C. 9701), authorizes the Secretary of the Interior to prescribe rules and regulations to administer leasing of the OCS. Such rules and regulations will apply to all operations conducted under a lease. Operations on the OCS must preserve, protect, and develop oil and natural gas resources in a manner that is consistent with the need to make such resources available to meet the Nation's energy needs as rapidly as possible; to balance orderly energy resource development with protection of human, marine, and coastal environments; to ensure the public a fair and equitable return on the resources of the OCS; and to preserve and maintain free enterprise competition. Sections 11 and 25 of the amended OCS Lands Act require the holders of OCS oil and gas or sulphur leases to submit exploration plans (EPs) or development and production plans (DPPs) to the Secretary for approval prior to commencing these activities. As a Federal agency, we have a continuing affirmative duty to comply with the Endangered Species Act (ESA). This includes a substantive duty to carry out any agency action in a manner that is not likely to jeopardize protected species as well as a procedural duty to consult with the Fish and Wildlife Service (FWS) and National Oceanic and Atmospheric Administration Fisheries (NOAA Fisheries) before engaging in a discretionary action that may affect a protected species.

The Independent Offices Appropriations Act (31 U.S.C. 9701), the Omnibus Appropriations Bill (Pub. L. 104-133, 110 Stat. 1321, April 26, 1996), and OMB Circular A-25, authorize Federal agencies to recover the full cost of services that confer special benefits. Under the Department of the Interior's (DOI) implementing policy, the Bureau of Ocean Energy Management, Regulation, and Enforcement (BOEM) is required to charge fees for services that provide special benefits or privileges to an identifiable non-Federal recipient above and beyond those which accrue to the public at large. Several requests for approval required in subpart B are subject to cost recovery, and BOEMRE regulations specify service fees for these requests.

This authority and responsibility are among those delegated to the Bureau of Ocean Energy Management, Regulation and Enforcement (BOEMRE). The regulations at 30 CFR part 250, subpart B, concern plans and information required while conducting activities on a lessee and/or operators lease and are the subject of this collection. This request also covers the related Notices to Lessees and Operators (NTLs) that BOEMRE issues to clarify, supplement, or provide additional guidance on some aspects of our regulations.

BOEMRE engineers, geologists, geophysicists, environmental scientists, and other Federal agencies analyze and evaluate the information and data collected under subpart B to ensure that planned operations are safe; will not adversely affect the marine, coastal, or human environment; and will conserve the resources of the OCS. We use the information to: (a) Report annually to NOAA Fisheries the effectiveness of mitigation, any adverse effects of the proposed action, and any incidental take, in accordance with 50 CFR 402.14(i)(3), and (b) allow the Regional Supervisor to make an informed decision on whether to approve the proposed exploration or development and production plans as submitted or whether modifications are necessary without the analysis and evaluation of the required information. The affected States also review the information collected for consistency with approved Coastal Zone Management (CZM) plans.

Specifically, BOEMRE uses the information to evaluate, analyze, determine, or ensure that:

• Ancillary activities comply with appropriate laws or regulations and are conducted safely, protect the environment, and do not interfere or conflict with the other uses of the OCS (i.e., military use, subsistence activity).

• Points of contact and responsible parties are designated for proposed activities.

• Surveying, monitoring, or other activities do not interfere or conflict with preexisting and other uses of the area.

• Plans or actions meet or implement lease stipulation requirements.

• Proposed exploration, drilling, production, and pipeline activities are conducted in a safe and acceptable manner for the location and water depth proposed and conserve reservoir energy to allow enhanced recovery operations in later stages of lease development.

• Unnecessary or incompatible facilities are not installed on the OCS.

• Shallow drilling hazards (such as shallow gas accumulations or mudslide areas) are avoided.

• Areas are properly classified for H2S, and appropriate procedures are in place.

• Appropriate oil spill planning measures and procedures are implemented.

• Expected meteorological conditions at the activity site are accommodated.

• Environmentally sensitive areas are identified, and the direct and cumulative effects of the activities are minimized.

• Offshore and onshore air quality is not significantly affected by the proposed activities.

• Waste disposal methods and pollution mitigation techniques are appropriate for local conditions.

• State CZM requirements have been met.

• Archaeological or cultural resources are identified and protected from unreasonable disturbances.

• Socioeconomic effects of the proposed project on the local community and associated services have been determined.

• Support infrastructures and associated traffic are adequately covered in plans.

The following forms used in the Gulf of Mexico Region (GOMR) are also submitted to BOEMRE. The OMB approved these forms as part of the information collection for the current subpart B regulations. The BOEMRE forms are:

• MMS-0137 (Plan Information Form) is submitted to summarize plan information. Due to the Deepwater Horizon and Macondo well incident, we reevaluated procedures for reviewing blowout scenarios and worst case discharge. The revised form is printed at the end of this notice for your review and comment.

• MMS-0138 (GOM Air Emission Calculations for Exploration Plans) and MMS-0139 (GOM Air Emission Calculations for Development Operations Coordination Documents (DOCDs)) are submitted to standardize the way potential air emissions are estimated and approved as part of the OCS plan. While both forms remain unchanged, the instructions for each have been revised, which would affect how information is to be calculated. The revised instructions for each form are printed at the end of this notice for your review.

• MMS-0141 (ROV Survey Report) is submitted to report the observations and information recorded from 2 sets of ROV monitoring surveys to identify high-density biological communities that may occur on the seafloor in deep water.

• MMS-0142 (Environmental Impact Analysis Worksheet) is a fill in the blank form that is submitted to identify the environmental impact-producing factors (IPFs) for the listed environmental resources.

BOEMRE is also providing: Tips to Avoid Common Emissions Spreadsheet Errors and Instructions, which are printed at the end of this notice for your review.

We will protect information considered proprietary under the Freedom of Information Act (5 U.S.C. 552) and its implementing regulations (43 CFR 2), 30 CFR 250.197, “Data and information to be made available to the public or for limited inspection,” and 30 CFR Part 252, “Outer Continental Shelf (OCS) Oil and Gas Information Program.” No items of a sensitive nature are collected. Responses are mandatory.

Frequency: On occasion, weekly, monthly, semi-annually, annually, and varies by section.

Description of Respondents: Potential respondents include Federal OCS oil, gas, and sulphur lessees and holders of pipeline rights-of-way.

Estimated Reporting and Recordkeeping Hour Burden: The currently approved annual reporting burden for this collection is 291,414 hours. The following chart details the individual components and respective hour burden estimates of this ICR. In calculating the burdens, we assumed that respondents perform certain requirements in the normal course of their activities. We consider these to be usual and customary and took that into account in estimating the burden.

Citation 30 CFR 250 subpart B and NTLs | Reporting & recordkeeping requirement | Hour burden: Non-hour costs
200 thru 206 | General requirements for plans and information. Burden included with specific requirements below | 0.
201 thru 206; 211 thru 228: 241 thru 262; | BOEMRE posts on FDMS, EPs/DPPs/DOCDs, and receives public comments in preparation of EAs. Not considered IC as defined in 5 CFR 1320.3(h)(4) | 0.
Ancillary Activities
208 NTL | Notify BOEMRE and other users of the OCS before conducting ancillary activities | 10.
210(a) | Submit report summarizing & analyzing data/information obtained or derived from ancillary activities | 1.
210(b) | Retain ancillary activities data/information; upon request, submit to BOEMRE | 2.
Contents of Exploration Plans (EP)
211 thru 228; 209; NTL 2010 N-06, and other NTLs | Submit EP and all required information (including, but not limited to, submissions required by BOEMRE forms MMS-137, MMS-138, MMS-142 used in GOMR, withdrawals; lease stipulations; reports; H2S; G&G; etc.) and provide notifications | 659.25. $3,442 for ea EP*. AKOCS—1,000.
Seismic Survey Mitigation Measures and Protected Species Observer Program
211 thru 228: 241 thru 262; NTLs | Submit to BOEMRE observer training requirement materials and information | ½ hour.
| Training certification and recordkeeping | ½ hour.
| If used, submit to BOEMRE information on any passive acoustic monitoring system prior to placing it in service | 1 hour.
| Submit to BOEMRE marine mammal observation report(s) (this includes observer duty and training and are the occasional activities done in-house and not subcontracted out.) | 345 hours**.
| Observer training*** (in-house training is in hours—contracted out training is in non- hour cost burdens) | 8 hours. $37.50/hr.
| Observation Report/Form | $10,400.
| Observation Duty (3 observers fulfilling an 8 hour shift ea for 365 calendar days × 4 vessels = 35,040 man-hours) | $52/hr.
Protected Species Report
211 thru 228: 241 thru 262; NTLs | Submit injured/dead protected species report. | ½ hour.
Trash and Debris Awareness/Elimination
211 thru 228: 241 thru 262; NTLs | Submit request for training video | ½ hour.
| Submit annual report to BOEMRE on training process and certification | ½ hour.
| Training recordkeeping | ½ hour.
| Post placards on vessels and structures (exempt from information collection burden because BOEMRE is providing exact language for the trash and debris warning, similar to the “Surgeon General's Warning” exemption) | 0.
Review and Decision Process for the EP
231(b); 232(d); 234; 235; 281(d)(3); 283; 284; 285; NTL 2010 N-06 | Submit amended, modified, revised, or supplemental EP, or resubmit disapproved EP; withdraw your EP | 120.
235(b); 272(b); 281(d)(3)(ii) | Appeal State's objection [burden exempt as defined in 5 CFR 1320.4(a)(2), (c)] | 0.
Contents of Development and Production Plans (DPP) and Development Operations Coordination Documents (DOCD)
241 thru 262; 209; NTL 2010 N-06, and others | Submit DPP/DOCD and accompanying/supporting information (including, but not limited to, submissions required by BOEMRE forms MMS-0137, MMS-0139, MMS-0142 used in GOMR; lease stipulations; withdrawals, etc.); provide notifications | 690. $3,971 for ea DPP or DOCD. AKOCS—1,700.
Review and Decision Process for the DPP or DOCD
266(b); 267(d); 272(a); 273; 283; 284; 285; 209; NTL 2010 N-06 | Submit amended, modified, revised, or supplemental DPP or DOCD, or resubmit disapproved DPP or DOCD | 95. POCS-680.
267(a) | Once BOEMRE deemed DPP/DOCD submitted; Governor of each affected State, local government official; etc., submit comments/recommendations | 1.
267(b) | General public comments/recommendations submitted to BOEMRE re DPPs or DOCDs. Not considered IC as defined in 5 CFR 1320.3(h)(4) | 0.
269(b) | Submit information on preliminary plans for leases or units in vicinity of proposed development and production activities | 2.
Post-Approval Requirements for the EP, DPP, and DOCD
280(b) | Request departure from your approved EP, DPP, or DOCD [burden covered under 1010-0114] | 0.
281(a) | Submit various applications [burdens included under appropriate subpart or form (1010-0050; 1010-0059; 1010-0141; 1010-0149)] | 0.
282 | Retain monitoring data/information | 2.
| Submit monitoring plans | 1.
282(b) | Submit monitoring reports and data (including form MMS-0141 used in GOMR) | 2.
Submit DWOPs, CIDs, and Departure/Alternative Compliance Requests
287 thru 295 | Submit DWOP and accompanying/supporting information | 750. $3,336 for ea DWOP.
296 thru 298 | Submit CID and accompanying/supporting information | 443. $25,629 for ea CID.
200 thru 299 | General departure and alternative compliance requests not specifically covered elsewhere in subpart B regulations | 2.
* You may have multiple locations and/or wells for each EP, EPP, or DOCD.
** Hours are based on 14 days of observing, attending a training session, and writing report(s).
*** Allowed minimal hour burden for in-house training.
Note: The non-hour cost burdens associated with EPs, DPPs or DOCDs, DWOPs, and CIDs relate to cost recovery fees. These fees are based on actual monies received in FY2010 thru the Pay.gov system.

Estimated Reporting and Recordkeeping “Non-Hour Cost” Burden: We have identified seven non-hour costs associated with this information collection. Four of these non-hour cost burdens are cost recovery fees. They consist of fees being submitted with EPs ($3,442), DPPs or DOCDs ($3,971), DWOPs ($3,336), and CIDs ($25,629). There are also three non-hour cost burdens that are associated with the Protected Species Observer Program. The costs associated with this program are due to activities that are, for the most part, subcontracted to other service companies with expertise in these areas. To allow for the potential in-house reporting by lessees/operators, we have retained a minimal hour burden in the table.

We have not identified any other non-hour cost burdens associated with this collection of information.

Public Disclosure Statement: The PRA (44 U.S.C. 3501, et seq.) provides that an agency may not conduct or sponsor a collection of information unless it displays a currently valid OMB control number. Until OMB approves a collection of information, you are not obligated to respond.

Comments: Before submitting an ICR to OMB, PRA section 3506(c)(2)(A) requires each agency “* * * to provide notice * * * and otherwise consult with members of the public and affected agencies concerning each proposed collection of information * * *”. Agencies must specifically solicit comments to: (a) Evaluate whether the proposed collection of information is necessary for the agency to perform its duties, including whether the information is useful; (b) evaluate the accuracy of the agency's estimate of the burden of the proposed collection of information; (c) enhance the quality, usefulness, and clarity of the information to be collected; and (d) minimize the burden on the respondents, including the use of automated collection techniques or other forms of information technology.

Agencies must also estimate the non-hour cost burdens to respondents or recordkeepers resulting from the collection of information. Therefore, if you have costs to generate, maintain, and disclose this information, you should comment and provide your total capital and startup cost components or annual operation, maintenance, and purchase of service components. You should describe the methods you use to estimate major cost factors, including system and technology acquisition, expected useful life of capital equipment, discount rate(s), and the period over which you incur costs. Capital and startup costs include, among other items, computers and software you purchase to prepare for collecting information, monitoring, and record storage facilities. You should not include estimates for equipment or services purchased: (i) Before October 1, 1995; (ii) to comply with requirements not associated with the information collection; (iii) for reasons other than to provide information or keep records for the Government; or (iv) as part of customary and usual business or private practices.

We will summarize written responses to this notice and address them in our submission for OMB approval. As a result of your comments, we will make any necessary adjustments to the burden in our submission to OMB. Revised Form BOEMRE-0137 follows:

BILLING CODE 4310-MR-P

Public Comment Procedures: Before including your address, phone number, email address, or other personal identifying information in your comment, you should be aware that your entire comment—including your personal identifying information—may be made publicly available at any time. While you can ask us in your comment to withhold your personal identifying information from public review, we cannot guarantee that we will be able to do so.

BOEMRE Information Collection Clearance Officer: Arlene Bajusz (703) 787-1025.

Dated: June 28, 2011.
Doug Slitor,
Acting Chief, Office of Offshore Regulatory Programs.

[FR Doc. 2011-16745 Filed 7-5-11; 8:45 am]

BILLING CODE 4310-MR-C